GENERAL SERVICES ADMINISTRATION

41 CFR Part 102-34

[FMR Amendment 2006-03; FMR Case 2006-102-1]

RIN 3090-AH68

Federal Management Regulation; Motor Vehicle Management

AGENCY: Office of Governmentwide Policy, General Services Administration (GSA).

ACTION: Interim rule with request for comments.

SUMMARY: The General Services Administration (GSA) is amending the Federal Management Regulation (FMR) by updating requirements and information on motor vehicle management. This interim rule makes changes to vehicle identification requirements. Specifically, it allows agencies to have limited identification exemptions for motor vehicles that are regularly used for common administrative purposes. Some agencies have expressed a need to exempt even their administrative vehicles from displaying Government identification for situations with specifically identified security risks. Agencies will still need to have a certification of need signed by the agency head or designee before authorizing limited identification exceptions.

This interim rule provides information for obtaining U.S. Government license plates from UNICOR, Federal Prison Industries Inc., the current license plate supplier. This interim rule further updates Federal motor vehicle management regulations by replacing the requirement for agencies to provide certain motor vehicle information to GSA on the Standard Form 82 with the requirement to use the Federal Automotive Statistical Tool (FAST), an Internet-based reporting tool.

This interim rule also requires agencies to have an agency-wide fleet management information system that will link all fleet data throughout the agency and interface with the Federal Automotive Statistical Tool (FAST). This new FMR requirement implements 40 U.S.C. 17503 that gives the Administrator with others, the authority to prescribe data collection requirements for data on the costs and uses of motor vehicles by executive agencies. Furthermore, the requirement for an agency-wide management information system was a keystone report recommendation for improving agency fleet management made by the Federal Fleet Policy Council's interagency team of fleet professionals following their review of agencies' fleet management programs in 2002. The FMR and any corresponding documents may be accessed at GSA's Web site at http://www.gsa.gov/fmr.

DATES: Effective Date: This interim rule is effective May 25, 2006.

Comment Date: Comments must be received on or before June 12, 2006.

ADDRESSES: Submit comments identified by FMR case 2006-102-1 by any of the following methods:

• Federal eRulemaking Portal: http://www.regulations.gov. Follow the instructions for submitting comments.

• Agency Web Site: http://www.gsa.gov/fmr. Click on FMR Interim Rules, and the FMR case number to submit comments.

• E-mail: fmrcase.2006-102-1@gsa.gov. Include FMR case 2006-102-1 in the subject line of the message.

• Fax: 202-501-4067.

• Mail: General Services Administration, Regulatory Secretariat (VIR), 1800 F Street, NW., Room 4035, ATTN: Laurieann Duarte, Washington, DC 20405.

Instructions: Please submit comments only and cite FMR case 2006-102-1 in all correspondence related to this case. All comments received will be posted without change to http://www.gsa.gov/fmr, including any personal information provided. Click on FMR Public Comments.

FOR FURTHER INFORMATION CONTACT: The Regulatory Secretariat, Room 4035, GSA Building, Washington, DC, 20405, (202) 208-7312, for information pertaining to status or publication schedules. For clarification of content, contact James Vogelsinger, Office of Governmentwide Policy, Office of Travel, Transportation, and Asset Management (MT), at (202) 501-1764 or e-mail at vehicle.policy@gsa.gov. Please cite FMR case 2006-102-1.

SUPPLEMENTARY INFORMATION:

A. Background

Part 102-34 of the Federal Management Regulation (FMR) (41 CFR part 102-34) is being amended to update the regulation in the following areas: The Fleet Average Economy Standards for FY 2000 and beyond; the preferred location for displaying motor vehicle identification; the source for obtaining official U.S. Government license plates; and the process for receiving exemptions from the requirement to display U.S. Government license plates and other motor vehicle identification.

Also, Federal agencies located in the District of Columbia (DC) should now use Federal license plates provided by UNICOR for all their vehicles, even those vehicles operating in DC. The requirement for Government vehicles operating in DC to obtain U.S. Government license plates from the DC Department of Motor Vehicles is removed by this interim rule. This change standardizes the license plate ordering process and allows Federal agencies in DC to use the same type of license plates as Federal agencies use in the rest of the country. The list of approved U.S. Government license plate codes has been removed from section 102-34.160 and placed in GSA Bulletin FMR B-11. Also, the list of agencies having unlimited exemptions from displaying U.S. Government license plate and motor vehicle identification has been removed from section 102-34.195 and placed in GSA Bulletin FMR B-12. (FMR bulletins are located at www.gsa.gov/bulletin.)

Subpart I of 41 CFR part 102-34 is being revised to require agencies to have a vehicle management information system (VMIS) in accordance with 40 U.S.C. 17503. In April 2002, the Office of Management and Budget (OMB) requested all Executive Branch agencies to take a closer look at their fleet management operations, particularly the size of their fleets and costs of operations. Many agencies were unable to accurately evaluate their fleet operations because of a lack of data on vehicle inventory and operational costs. Agencies also lacked internal performance metrics to ensure their fleets were being replaced in a timely manner and operating at their optimal performance level. An interagency review team from the Federal Fleet Policy Council (FEDFLEET) recommended that agencies be required to have a VMIS. There are two main reasons for this requirement. First, with a VMIS agencies can more efficiently and accurately collect agency information on their actual motor vehicle fleet: vehicle cost, fuel costs, projected vehicle inventories and vehicle disposals; and then use that information to better manage their fleets. Secondly, agencies can more easily provide that information to the Internet-based reporting system called FAST (Federal Automotive Statistical Tool) in lieu of the paper SF 82. The data reported to FAST will be used by GSA, the Department of Energy, and the Office of Management and Budget to monitor Federal fleets and identify those agency motor vehicle management programs that are effective as well as identify those programs that need to improve.

In addition, some sections of this regulation were rewritten for clarity. Editorial changes were made to the entire regulation to remove outdated information in tables and to make the regulation consistent with current practices. For example, in subpart F “crash” replaces “accident” when referring to motor vehicle collisions to be consistent with the National Highway and Safety Administration, the lead Federal agency for the assurance of safe, secure, and efficient automotive travel.

B. Executive Order 12866

The General Services Administration (GSA) has determined that this interim rule is not a significant regulatory action for the purposes of Executive Order 12866 of September 30, 1993.

C. Regulatory Flexibility Act

A Regulatory Flexibility Analysis is not required under the Regulatory Flexibility Act, 5 U.S.C. 601, et seq., because there is no requirement that this interim rule be published in the Federal Register for notice and comment.

D. Paperwork Reduction Act

The Paperwork Reduction Act does not apply because this interim rule does not contain any information collection requirements that require the approval of the OMB under 44 U.S.C. 3501, et seq.

E. Small Business Regulatory Enforcement Fairness Act

This interim rule is also exempt from Congressional review prescribed under 5 U.S.C. 801 since it relates solely to agency management and personnel.

List of Subjects in 41 CFR Part 102-34

Energy conservation, Government property management, Motor vehicles, Reporting and recordkeeping requirements.

Dated: February 1, 2006.
David L. Bibb,
Acting Administrator of General Services.

For the reasons set forth in the preamble, 41 CFR part 102-34 is amended as follows:

PART 102-34—MOTOR VEHICLE MANAGEMENT

1. The authority citation for part 102-34 is amended to read as follows:

Authority: 40 U.S.C. 121(c); 40 U.S.C. 17503.

2. Revise § 102-34.55 to read as follows:

§ 102-34.55 What are the minimum fleet average fuel economy standards?

The minimum fleet average fuel economy standards appear in the following table:

Fleet Average Fuel Economy Standards ¹
Fiscal year | Passenger automobile ² | Light truck ³,⁴
2005 | 27.5 | 21.0
2006 | 27.5 | 21.6
2007 | 27.5 | 22.2
¹ These figures represent miles/gallon.
² Established by section 49 U.S.C. 32902 and the Secretary of Transportation.
³ Fleet average fuel economy standard set by the Secretary of Transportation and mandated by Executive Order 12375 beginning in fiscal year 1982.
⁴ Fleet average fuel economy for light trucks is the combined fleet average fuel economy for all 4 x 2 and 4 x 4 light trucks.

3. Revise § 102-34.110 to read as follows:

§ 102-34.110 What motor vehicle identification must we put on motor vehicles we purchase or lease?

Unless exempted under sections § 102-34.180, § 102-34.195 or § 102-34.200, motor vehicles must display the following identification:

(a) “For Official Use Only”,

(b) “U.S. Government”, and

(c) Identification that readily identifies the agency owning the vehicle.

4. Amend § 102-34.120 by revising paragraph (a), removing paragraph (b) and redesignating paragraph (c) as new paragraph (b), and adding a note at the end of the section to read as follows:

§ 102-34.120 Where is motor vehicle identification placed on purchased and leased motor vehicles?

(a) For most motor vehicles, the location in preferred order is as follows:

(1) On the official U.S. Government license plate.

(2) On a decal in the rear window, or centered on both front doors if the vehicle is without a rear window or where identification on the rear window would not be easily seen.

* * * * *

Note to § 102-34.120: Each agency or activity that uses decals to identify its motor vehicles is responsible for acquiring its own decals and for replacing them when necessary due to damage or wear.

5. Add § 102-34.131 to read as follows:

§ 102-34.131 Can official U.S. Government license plates be used on motor vehicles not owned or leased by the Government?

No, official U.S. Government license plates may only be used on motor vehicles that are owned or leased by the Government.

6. Revise § 102-34.135 to read as follows:

§ 102-34.135 Do we need to register motor vehicles owned or leased by the Government?

If the vehicles display U.S. Government license plates and motor vehicle identification, you do not need to register motor vehicles owned or leased by the Government in the jurisdiction where the vehicle is operated. However, motor vehicles exempted under § 102-34.180, § 102-34.195, or § 102-34.200 of this part must be registered and inspected in accordance with the laws of the jurisdiction where the motor vehicle is regularly operated.

7. Revise § 102-34.140 to read as follows:

§ 102-34.140 Where may we obtain U.S. Government license plates?

You may obtain U.S. Government license plates—

(a) For motor vehicles operated in any State, Commonwealth, territory or possession of the United States, and the District of Columbia by contacting: U.S. Department of Justice, UNICOR, Federal Prison Industries, Inc., 400 First Street, NW., Room 6010, Washington, DC 20534.

(b) For all other motor vehicles by contacting the following office for assistance: General Services Administration, ATTN: MT, Washington, DC 20405, Email: vehicle.policy@gsa.gov.

Note to § 102-34.140: The General Services Administration (GSA) has established a Memorandum of Understanding (MOU) on behalf of all Federal agencies with Federal Prison Industries (UNICOR) for the procurement of official U.S. Government license plates. Each agency must execute an addendum to this MOU providing plate design and specific ordering and payment information before ordering license plates. Agency field activities should contact their national level Agency Fleet Manager for assistance.

8. Revise § 102-34.160 to read as follows:

§ 102-34.160 How are U.S. Government license plates coded and numbered?

U.S. Government license plates will be numbered serially for each executive agency, beginning with “101”, and preceded by a letter code that designates the owning agency for the motor vehicle. The agency letter codes are listed in GSA Bulletin FMR B-8 (FMR bulletins are located at www.gsa.gov/bulletin).

§ 102-34.170 [Removed and Reserved]

9. Remove and reserve § 102-34.170.

§ 102-34.180 [Amended]

10. Amend § 102-34.180 by removing the note at the end of the section.

11. Revise § 102-34.195 to read as follows:

§ 102-34.195 What agencies have an unlimited exemption from displaying U.S. Government license plates and motor vehicle identification?

The Federal agencies, or activities within agencies, listed in FMR Bulletin B-12 (located at www.gsa.gov/bulletin) are granted an unlimited exemption for vehicles that meet the requirements in the bulletin.

12. Amend § 102-34.200 by revising the section heading and adding a note to the end of the section to read as follows:

§ 102-34.200 What agencies have a special exemption from displaying U.S. Government license plates and motor vehicle identification on some of their vehicles?

* * * * *

Note to § 102-34 200: The Executive departments are: The Department of State, the Department of the Treasury, the Department of Defense, the Department of Justice, the Department of the Interior, the Department of Agriculture, the Department of Commerce, the Department of Labor, the Department of Health and Human Services, the Department of Homeland Security, the Department of Housing and Urban Development, the Department of Transportation, the Department of Energy, the Department of Education, and the Department of Veterans Affairs.

13. Revise § 102-34.210 to read as follows:

§ 102-34.210 What special requirements apply to exempted motor vehicles using District of Columbia or State license plates?

If your agency wants to use regular District of Columbia (DC) license plates or State license plates for motor vehicles exempt from displaying U.S. Government license plates and motor vehicle identification, your agency head must designate an official to authorize such use. Provide the name and facsimile signature of that official to the DC Department of Transportation annually, or to the equivalent State vehicle motor vehicle department, as required. Agencies must pay the DC and the States for these license plates in accordance with DC or state policy. Also, for motor vehicles leased from the GSA Fleet, send a list of the new plates to: General Services Administration, ATTN: FFF, Washington, DC 20406.

14. Revise § 102-34.255 to read as follows:

§ 102-34.255 Who pays for parking fees?

You must pay parking fees while operating a motor vehicle owned or leased by the Government. However, you can expect to be reimbursed for parking fees incurred while performing official duties.

15. Add § 102-34.256 to read as follows:

§ 102-34.256 Who pays for parking fines?

If you are fined for a parking violation while operating a motor vehicle owned or leased by the Government, you are responsible for paying the fine and will not be reimbursed.

16. Revise § 102-34.260 to read as follows:

§ 102-34.260 Do Federal employees in motor vehicles owned or leased by the Government have to use all safety devices and follow all safety guidelines?

Yes, Federal employees in motor vehicles owned or leased by the Government have to use all safety devices including safety belts and follow all appropriate motor vehicle manufacturer safety guidelines.

17. Revise § 102-34.300 to read as follows:

§ 102-34.300 What forms do I use to report a crash involving a motor vehicle owned or leased by the Government?

The General Services Administration (GSA) requires that you use the following forms to report a crash in any State, Commonwealth, territory or possession of the United States and the District of Columbia. The forms should be carried in any motor vehicle owned or leased by the Government.

(a) Standard Form 91, Motor Vehicle Accident Report. The motor vehicle operator should complete this form at the time and scene of the crash if possible, even if damage to the motor vehicle is not noticeable.

(b) Standard Form 94, Statement of Witness. This form should be completed by any witness to the crash.

18. Revise § 102-34.305 to read as follows:

§ 102-34.305 To whom do we send crash reports?

Send crash reports as follows:

(a) If the motor vehicle is owned or leased by your agency, follow your internal agency directives.

(b) If the motor vehicle is managed by the GSA Fleet, report the crash to GSA in accordance with subpart 101-39.4 of this title.

§ 102-34.310 [Amended]

19. Amend § 102-34.310 by removing “101-45 and 101-46 of this title” in the last sentence of the section paragraph and adding “102-38 and 102-39 of this subchapter B” in its place.

20. Amend § 102-34.315 by revising the note to § 102-34.315(a)(2) to read as follows:

§ 102-34.315 What forms do we use to transfer ownership when selling a motor vehicle?

* * * * *

Note to § 102-34.315(a)(2): Do not use Standard Form (SF) 97 if the Government-owned motor vehicle is either not designed or not legal for operation on highways. Examples are construction equipment, farm machinery, and certain military-design motor vehicles and motor vehicles that are damaged beyond repair in crashes and intended to be sold as salvage only. Instead, use an appropriate bill of sale or award document. Examples are Optional Form 16, Sales Slip-Sale of Government Personal Property, and Standard Form 114, Sale of Government Property—Bid and Award.

* * * * *

21. Amend § 102-34.330 by adding a note at the end of the section to read as follows:

§ 102-34.330 What Government-issued charge cards may I use to purchase fuel and motor vehicle related services?

* * * * *

Note to § 102-34.330: OMB Circular A-123, Appendix B, contains additional specific guidance on the management, issuance, and usage of Government charge cards. The Appendix B guidance consolidates and updates current Governmentwide charge card program requirements and guidance issued by the Office of Management and Budget, General Services Administration, Department of the Treasury, and other Federal agencies. Appendix B provides a single document to incorporate changes, new guidance, or amendments to existing guidance, and establishes minimum requirements and suggested best practices for Government charge card programs that may be supplemented by individual agency policy procedures.

22. Revise § 102-34.345 to read as follows:

§ 102-34.345 What is the Federal Fleet Report?

The Federal Fleet Report (FFR) is an annual summary of Federal fleet statistics based upon fleet composition at the end of each fiscal year and vehicle use and cost during the fiscal year. The FFR is compiled by the General Services Administration (GSA) from information submitted by Federal agencies. The FFR is designed to provide essential statistical data for worldwide Federal motor vehicle fleet operations. Review of the report assists Government agencies, including GSA, in evaluating the effectiveness of the operation and management of individual fleets to determine whether vehicles are being utilized properly and to identify high cost areas where fleet expenses can be reduced. The FFR is posted on the GSA, Federal Vehicle Policy Division Internet website (http://www.gsa.gov/vehiclepolicy).

23. Add § 102-34.346 to read as follows:

§ 102-34.346 How do I submit information to the General Services Administration (GSA) for the Federal Fleet Report (FFR)?

(a) Annually, agencies must submit to the General Services Administration (GSA) the information needed to produce the Federal Fleet Report (FFR) through the electronic Standard Form (SF) 82, Agency Report of Motor Vehicle Data. Agencies must use the Federal Automotive Statistical Tool (FAST), an Internet-based reporting tool, to report required information to GSA. To find out how to submit motor vehicle data to GSA through FAST, go to http://fastweb.inel.gov/.

(b) Specific reporting categories, by agency, included in the FFR are—

(1) Inventory;

(2) Acquisitions;

(3) Operating costs;

(4) Miles traveled; and

(5) Fuel used.

Note to § 102-34.346: The FAST system is also used by agency Fleet Managers to provide the Department of Energy with information required by the Energy Policy Act and Executive Order 13149. In addition, the Office of Management and Budget (OMB) requires agency Fleet Managers and budget officers to submit annual agency motor vehicle budgeting information to OMB through FAST. (See OMB Circular A-11, Preparation, Submission, and Execution of the Budget.)

24. Add § 102-34.347 to read as follows:

§ 102-34.347 Do we need a fleet management information system?

Yes, you must have a fleet management information system that—

(a) Identifies and collects accurate inventory, cost, and use data;

(b) Provides the information necessary to satisfy both internal and external reporting requirements;

(c) Collects all costs incurred in the operation, maintenance, acquisition, and disposition of motor vehicles used for official purposes; and

(d) Is capable of providing the data required for external reporting, such as FAST (see § 102-34.346).

[FR Doc. 06-4430 Filed 5-11-06; 8:45 am]

BILLING CODE 6820-14-S